DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Health Professions Student Loan (HPSL) Program and Nursing Student Loan (NSL) Program Administrative Requirements (Regulations and Policy) (OMB No. 0915-0047)—Revision

The regulations for the Health Professions Student Loan (HPSL) Program and Nursing Student Loan (NSL) Program contain a number of reporting and recordkeeping requirements for schools and loan applicants. The requirements are essential for assuring that borrowers are aware of rights and responsibilities, that schools know the history and status of each loan account, that schools pursue aggressive collection efforts to reduce default rates, and that they maintain adequate records for audit and assessment purposes. Schools are free to use improved information technology to manage the information required by the regulations.

The estimated total annual burden is 34,558 hours. The burden estimates are as follows:

Recordkeeping Requirements
Regulatory/section requirements | Number of recordkeepers | Hours per year | Total burden hours
HPSL Program:
57.206(b)(2), Documentation of Cost of Attendance | 275 | 1.17 | 322
57.208(a), Promissory Note | 275 | 1.25 | 344
57.210(b)(1)(i), Documentation of Entrance Interview | 275 | 1.25 | 344
57.210(b)(1)(ii), Documentation of Exit Interview | ¹ 302 | 0.33 | 100
57.215(a)&(d), Program Records | ¹ 302 | 10 | 3,020
57.215(b), Student Records | ¹ 302 | 10 | 3,020
57.215(c), Repayment Records | ¹ 302 | 18.75 | 5,663
HPSL Subtotal | 302 |  | 12,813
NSL Program:
57.306(b)(2)(ii), Documentation of Cost of Attendance | 347 | 0.3 | 104
57.308(a), Promissory Note | 347 | 0.5 | 174
57.310(b)(1)(i), Documentation of Entrance Interview | 347 | 0.5 | 174
57.310(b)(1)(ii), Documentation of Exit Interview | ¹ 607 | 0.17 | 103
57.315(a)(1)&(a)(4), Program Records | ¹ 607 | 5 | 3,035
57.315(a)(2), Student Records | ¹ 607 | 1 | 607
57.315(a)(3), Repayment Records | ¹ 607 | 2.5 | 1,518
NSL Subtotal | 607 |  | 5,715
¹ Includes active and closing schools.

Reporting Requirements
Regulatory/section requirements | Number of respondents | Responses per respondent | Total annual responses | Hours per response | Total hour burden
HPSL Program:
57.205(a)(2), Excess Cash | Burden included under 0915-0044 and 0915-0045
57.206(a)(2), Student Financial Aid Transcript | 3,750 | 1 | 3,750 | .25 | 938
57.208(c), Loan Information Disclosure | 275 | 69 | 18,975 | .0833 | 1,581
57.210(a)(3), Deferment Eligibility | Burden included under 0915-0044
57.210(b)(1)(i), Entrance Interview | 275 | 69 | 18,975 | .0167 | 3,169
57.210(b)(1)(ii), Exit Interview | ¹ 302 | 12 | 3,624 | 0.5 | 1,812
57.210(b)(1)(iii), Notification of Repayment | ¹ 302 | 31 | 9,362 | 0.167 | 1,563
57.210(b)(1)(iv), Notification During Deferment | ¹ 302 | 24 | 7,248 | 0.0833 | 604
57.210(b)(1)(vi), Notification of Delinquent Accounts | ¹ 302 | 10 | 3,020 | 0.167 | 504
57.210(b)(1)(x), Credit Bureau Notification | ¹ 302 | 8 | 2,416 | 0.6 | 1,450
57.210(b)(4)(i), Write-off of Uncollectible Loans | 20 | 1 | 20 | 0.5 | 10
57.211(a) Disability Cancellation | 8 | 1 | 8 | .75 | 6
57.215(a) Reports | Burden included under 0915-0044
57.215(a)(2), Administrative Hearings | 0 | 0 | 0 | 0 | 0
57.215(a)(d), Administrative Hearings | 0 | 0 | 0 | 0 | 0
HPSL Subtotal | 4,052 |  | 67,398 |  | 11,637
NSL Program:
57.305(a)(2), Excess Cash | Burden included under 0915-0044 and 0915-0046
57.306(a)(2), Student Financial Aid Transcript | 2,250 | 1 | 2,250 | 0.25 | 563
57.310(b)(1)(i), Entrance Interview | 347 | 24 | 8,328 | 0.167 | 1,391
57.310(b)(1)(ii), Exit Interview | ¹ 607 | 4 | 2,428 | 0.5 | 1,214
57.301(b)(1)(iii), Notification of Repayment | ¹ 607 | 6 | 3,642 | 0.167 | 608
57.310(b)(1)(iv), Notification During Deferment | ¹ 607 | 1 | 607 | 0.083 | 50
57.310(b)(1)(vi), Notification of Delinquent Accounts | ¹ 607 | 5 | 3,035 | 0.167 | 507
57.310(b)(1)(x), Credit Bureau Notification | ¹ 607 | 8 | 4,856 | 0.6 | 2,914
57.310(b)(4)(i), Write-off of Uncollectible Loans | 20 | 1.0 | 20 | 0.5 | 10
57.311(a), Disability Cancellation | 7 | 1.0 | 7 | 0.8 | 6
57.312(a)(3), Evidence of Educational Loans | Inactive Provision
57.315(a)(1), Reports | Burden included under 0915-044
57.315(a)(1)(ii), Administrative Hearings | 0 | 0 | 0 | 0 | 0
57.316(a)(d), Administrative Hearings | 0 | 0 | 0 | 0 | 0
NSL Subtotal | 2,857 |  | 25,173 |  | 7,263
¹ Includes active and closing schools.

Written comments and recommendations concerning the proposed information collection should be sent within 30 days of this notice to: John Morrall, Human Resources and Housing Branch, Office of Management and Budget, New Executive Office Building, Room 10235, Washington, DC 20503.

Dated: June 11, 2002.
Jane M. Harrison,
Director, Division of Policy Review and Coordination.

[FR Doc. 02-15161 Filed 6-14-02; 8:45 am]

BILLING CODE 4165-15-P